DEPARTMENT OF COMMERCE

National Oceanic and Atmospheric Administration (NOAA)

[Docket No. 0809261279-81280-01; I.D. GF001]

A North Atlantic Regional Cooperative Institute

AGENCY: OAR Cooperative Institutes Program Office (CIPO), Oceanic and Atmospheric Research (OAR), National Oceanic and Atmospheric Administration (NOAA), Commerce.

ACTION: Notice of funding availability.

SUMMARY: The NOAA National Marine Fisheries Service (NMFS) and the NOAA Office of Ocean and Atmospheric Research (OAR) invite applications for the establishment of a cooperative institute (CI) that will focus on the themes of (1) Ecosystem Forecasting, (2) Ecosystem Monitoring, (3) Ecosystem Management, Protection and Restoration of Resources, (4) Sustained Ocean Observations and (5) Climate Research. These 5 themes will be supported by a variety of research activities, which may include:

• Research on the linkages among productivity, fish and fisheries, pollution, climate change, and ecosystem health;

• Research to improve the integration and availability of ocean observations across spatial scales, from global to regional and local;

• Research to distinguish marine resource changes due to human impacts from those resulting from natural forcing, including climate variability and change;

• Development and application of new tools and approaches for monitoring ecosystem health and forecasting ecosystem change'

• Examination of the expected increases in socioeconomic benefits accrued from a better understanding of the effects of climate change, food webs, physical-chemical coupling, and ecosystem production dynamics'

• Collaborative research and education leading to closer linkages between scientific assessments and management actions.

This research, conducted within the New England and the Mid-Atlantic regions, is described in the full Federal Funding Opportunity notice.

Through this new CI, NOAA also seeks to augment its existing North East Regional climate research with an expanded fisheries forecasting capability, and to develop an integrated capability to research emerging issues from an ecosystem perspective. The CI may consist of one or more research institutions with expertise and capabilities in the NOAA priority areas that contribute to the areas of research described as research themes above. Through this competition, NOAA intends to establish competitively a new CI according to the policy and procedures described in NOAA Administrative Order 216-107 and the Cooperative Institute Interim Handbook both available at http://www.nrc.noaa.gov/ci/. This announcement provides requirements for the proposed CI and includes details for the technical program, evaluation criteria, and competitive selection procedures. Applicants should review the CI Interim Handbook prior to preparing a proposal for this announcement.

DATES: Proposals must be received by OAR no later than January 5, 2009 5 p.m., E.T. Proposals submitted after that date will not be considered.

ADDRESSES: Applicants are strongly encouraged to apply online through the Grants.Gov Web site http://www.grants.gov. Paper submissions are acceptable only if internet access is not available. Grants.gov requires applicants to register with the system prior to submitting an application. This registration process can take several weeks, involving multiple steps. In order to allow sufficient time for this process, you should register as soon as you decide that you intend to apply, even if you are not yet ready to submit your proposal. If an applicant has problems downloading the application package from Grants.gov, contact Grants.gov Customer Support at (800) 518-4726 or support@grants.gov. For non-Windows computer systems, please see http://www.grants.gov/MacSupport for information on how to download and submit an application through Grants.gov. If a hard copy application is submitted, the original and two unbound copies of the proposal should be included. Paper submissions should be sent to: Mr. Philip L. Hoffman, 1315 East West Highway, Room 11308, Silver Spring, Maryland 20910; telephone (301)734-1096. No email or facsimile proposal submissions will be accepted.

FOR FURTHER INFORMATION CONTACT: For a copy of the Federal Funding Opportunity announcement and/or an application package, please access Grants.gov, the NOAA Cooperative Institute Web site (http://www.nrc.noaa.gov/ci) or contact Mr. Philip L. Hoffman, 1315 East West Highway, Room 11308, Silver Spring, Maryland 20910; telephone (301)734-1096; e-mail: Philip.Hoffman@noaa.gov.

SUPPLEMENTARY INFORMATION: The purpose of this announcement is to invite the submission of proposals to establish a North Atlantic Regional CI which will operate along the eastern U.S. Continental Shelf frontier to conduct exploration, research, and technology development, and to provide details on the application, review, and selection process.

CI Concept/Program Background: A CI is a NOAA-supported, non-Federal organization that has established an outstanding research program in one or more areas that are relevant to the NOAA mission “to understand and predict changes in the Earth's environment and conserve and manage coastal and marine resources to meet our Nation's economic, social, and environmental needs.” CIs are established at research institutions that also have a strong education program with established graduate degree programs in NOAA-related sciences. The CI provides significant coordination of resources among all non-government partners and promotes the involvement of students and post-doctoral scientists in NOAA-funded research. The CI provides mutual benefits with value provided by all parties. NOAA establishes a new CI competitively when it identifies a need to sponsor a long-term (5-10 years) collaborative partnership with one or more outstanding non-Federal, non-profit research institutions. For NOAA, the purpose of this long-term collaborative partnership is to promote research, education, training, and outreach aligned with NOAA's mission; to obtain research capabilities that do not exist internally; and/or to expand research capacity in NOAA-related sciences. More specifically, the new CI will perform the following types of research activities:

• Research on the linkages among productivity, fish and fisheries, pollution, climate change, and ecosystem health;

• Research to improve the integration and availability of ocean observations across spatial scales, from global to regional and local;

• Research to distinguish marine resource changes due to human impacts from those resulting from natural forcing, including climate variability and change;

• Development and application of new tools and approaches for monitoring ecosystem health and forecasting ecosystem change;

• Examination of the expected increases in socioeconomic benefits accrued from a better understanding of the effects of climate change, food webs, physical-chemical coupling, and ecosystem production dynamics;

• Collaborative research and education leading to closer linkages between scientific assessments and management actions.

A CI will consist of one or more research institutions that demonstrate outstanding performance within one or more established research programs in NOAA-related sciences. These institutions may include Minority Serving Institutions and universities with strong departments that can contribute to the proposed activities of the CI. CIs conduct research under approved scientific research themes (see Section I.B of the full funding opportunity announcement) and Tasks (additional tasks can be proposed by the CI).

i. Task I activities are related to the management of the CI, as well as general education and outreach activities. This task also includes support of postdoctoral and visiting scientists conducting activities within the research themes of the CI that are approved by the CI Director, in consultation with NOAA, and are relevant to NOAA and the CI's mission goals.

ii. Task II activities usually involve on-going direct collaboration with NOAA scientists. This collaboration typically is fostered by the collocation of Federal and CI employees.

iii. Task III activities require minimal collaboration with NOAA scientists and may include research funded by other NOAA competitive grant programs.

Electronic Access: The full text of the full funding opportunity announcement for this program can be accessed via the Grants.gov Web site at http://www.grants.gov. The announcement will also be available by contacting the program officials identified under FOR FURTHER INFORMATION CONTACT. Applicants must comply with all requirements contained in the full funding opportunity announcement.

Statutory Authority: 15 U.S.C. 1540, 33 U.S.C. 883(d), 15 U.S.C. 313, 15 U.S.C. 2901 et seq., 118 Stat. 71 (Jan. 23, 2004).

CFDA: 11.432, OAR Joint and Cooperative Institutes.

Funding Availability: The award period will be 5 years, and may be renewed for an additional 5 years based on the outcome of a CI review in the fourth year. All funding is contingent upon the availability of Federal appropriations. NOAA expects that approximately $7M will be available for the CI in the first year of the award. The Task I budget should not exceed $350,000. The final amount of funding available for Task I will be determined during the negotiation phase of the award based on availability of funding. Funding for subsequent years is expected to be constant throughout the period and will depend on the quality of the research, the satisfactory progress in achieving the stated goals described in the proposal, continued relevance to program objectives, and the availability of funding.

Eligibility: Eligibility is limited to non-Federal public and private non-profit universities, colleges and research institutions that offer accredited graduate level degree-granting programs in NOAA-related sciences.

Cost Sharing Requirements: To stress the collaborative nature and investment of a CI by both NOAA and the research institution, cost sharing is required. There is no minimum cost sharing requirement; however, the amount of cost sharing will be considered when determining the level of the CI's commitment under NOAA's standard evaluation criteria for overall qualifications of applicants. Acceptable cost-sharing proposals include, but are not limited to, offering a reduced indirect cost rate against activities in one or more Tasks, waiver of indirect costs assessed against base funds and/or Task I activities, waiver or reduction of any costs associated with the use of facilities at the CI, and full or partial salary funding for the CI director, administrative staff, graduate students, visiting scientists, or postdoctoral scientists.

Evaluation and Selection Procedures: The general evaluation criteria and selection factors that apply to full applications to this funding opportunity are summarized below. The evaluation criteria for full applications will have different weights and details. Further information about the evaluation criteria and selection factors can be found in the full funding opportunity announcement.

Evaluation Criteria for Projects: Proposals will be evaluated using the standard NOAA evaluation criteria. Various questions under each criterion are provided to ensure that the applicant includes information that NOAA will consider important during the evaluation, in addition to any other information provided by the applicant.

i. Importance and/or relevance and applicability of proposed project to the program goals (25 percent): This criterion ascertains whether there is intrinsic value in the proposed work and/or relevance to NOAA, Federal, regional, state, or local activities.

• Does the proposal include research goals and projects that address the critical issues identified in NOAA's 5-year Research Plan, NOAA's Strategic Plan, and the priorities described in the program priorities (see Section I.B. of the full funding opportunity announcement)?

• Is there a demonstrated commitment (in terms of resources and facilities) to enhance existing NOAA and CI resources to foster a long-term collaborative research environment/culture?

• Does the proposal meet the geographical constraints described in the announcement?

ii. Technical/scientific merit (30 percent): This criterion assesses whether the approach is technically sound and/or innovative, if the methods are appropriate, and whether there are clear project goals and objectives.

• Does the project description include a summary of clearly stated goals to be achieved during the five year period that reflect NOAA's strategic plan and goals?

• Does the project description include innovative approaches to meeting the undersea technology development, exploration and research goals of the proposal?

• Does the CI involve partnerships with other universities or research institutions, including Minority Serving Institutions and universities with strong departments that can contribute to the proposed activities of the CI?

iii. Overall qualifications of applicants (30 percent): This criterion ascertains whether the applicant possesses the necessary education, experience, training, facilities, and administrative resources to accomplish the project.

• If the institution(s) and/or Principal Investigators have received current or recent NOAA funding, is there a demonstrated record of outstanding performance working with NOAA and/or NOAA scientists on research projects?

• Is there nationally and/or internationally recognized expertise within the appropriate disciplines needed to conduct the collaborative/interdisciplinary research described in the proposal?

• Is there a well-developed business plan that includes fiscal and human resource management, as well as strategic planning and accountability?

• Are there any unique capabilities in a mission-critical area of research for NOAA?

• Does the CI possess the necessary undersea technical expertise and resources, and/or provide access to the technical resources outlined in the proposal?

• Has the applicant shown a substantial investment to the NOAA partnership, as demonstrated by the amount of the cost sharing contribution?

iv. Project costs (5 percent): The budget is evaluated to determine if it is realistic and commensurate with the project needs and time-frame.

v. Outreach and education (10 percent): NOAA assesses whether this project provides a focused and effective education and outreach strategy regarding NOAA's mission to protect the Nation's natural resources.

• Is there a strong education program with established graduate degree programs in NOAA-related sciences that also encourages student participation in NOAA-related research studies.

Review and Selection Process: An initial administrative review/screening is conducted to determine compliance with requirements/completeness. All proposals will be evaluated and individually ranked in accordance with the assigned weights of the above-listed evaluation criteria by an independent peer review panel. At least three experts, who may be Federal or non-Federal, will be used in this process. If non-Federal experts participate in the review process, each expert will submit an individual review and there will be no consensus opinion. The merit reviewers' ratings are used to produce a rank order of the proposals. The Selecting Official selects proposals after considering the peer reviews and selection factors listed below. In making the final selections, the Selecting Official will award in rank order unless the proposal is justified to be selected out of rank order based upon one or more of the selection factors.

Selection Factors For Projects: The merit review ratings shall provide a rank order to the Selecting Official for final funding recommendations. The Selecting Official shall award in the rank order unless the proposal is justified to be selected out of rank order based upon one or more of the following factors:

i. Availability of funding.

ii. Balance/distribution of funds:

a. Geographically.

b. By type of institutions.

c. By type of partners.

d. By research areas.

e. By project types.

iii. Whether this project duplicates other projects funded or considered for funding by NOAA or other Federal agencies.

iv. Program priorities and policy factors.

v. Applicant's prior award performance.

vi. Partnerships and/or participation of targeted groups.

vii. Adequacy of information necessary for NOAA staff to make a National Environmental Policy Act (NEPA) determination and draft necessary documentation before recommendations for funding are made to the Grants Officer.

Intergovernmental Review: Applications under this program are not subject to Executive Order 12372, “Intergovernmental Review of Federal Programs.”

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required.

Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: October 1, 2008.
Mark E. Brown,
Chief Financial Officer/Chief Administrative Officer, Oceanic and Atmospheric Research, National Oceanic and Atmospheric Administration.

[FR Doc. E8-23654 Filed 10-6-08; 8:45 am]

BILLING CODE 3510-22-P